DEPARTMENT OF HEALTH AND HUMAN SERVICES

National Institutes of Health

National Institute of Mental Health; Amended Notice of Meeting

Notice is hereby given of a change in the meeting of the National Institute of Mental Health Special Emphasis Panel, March 28, 2013 from 01:00 p.m. to—04:30 p.m., National Institutes of Health, Neuroscience Center, 6001 Executive Boulevard, Rockville, MD 20852 which was published in the Federal Register on February 27, 2013, 78 FR 13358.

This meeting is being rescheduled due to pending deadlines. The meeting will be held one day earlier, March 27th from 1:00 p.m.-4:30 p.m. The meeting is closed to the public.

Dated: March 7, 2013.
Carolyn A. Baum,
Program Analyst, Office of Federal Advisory Committee Policy.

[FR Doc. 2013-05688 Filed 3-11-13; 8:45 am]

BILLING CODE 4140-01-P